DEPARTMENT OF AGRICULTURE

Agricultural Marketing Service

7 CFR Parts 925 and 944

[Docket No. FV03-925-1 PR]

Grapes Grown in a Designated Area of Southeastern California and Imported Table Grapes; Extension of Comment Period on Changing Regulatory Periods

AGENCY: Agricultural Marketing Service, USDA.

ACTION: Reopening and extension of comment period.

SUMMARY: Notice is hereby given that the comment period on proposed changes in the regulatory periods when minimum grade, size, quality, and maturity requirements apply to southeastern California grapes under Marketing Order No. 925 (order), and to imported grapes under the table grape import regulation is reopened and extended.

DATES: Comments must be received by September 11, 2006.

ADDRESSES: Interested persons are invited to submit written comments concerning this proposal. Comments should be sent to the Docket Clerk, Marketing Order Administration Branch, Fruit and Vegetable Programs, AMS, USDA, 1400 Independence Avenue, SW., STOP 0237, Washington, DC 20250-0237; Fax: (202) 720-8938, E-mail: moab.docketclerk@usda.gov, or Internet: http://www.regulations.gov. All comments should reference the docket number and the date and page number of this issue, the May 25, 2005, issue, the July 25, 2005, issue, and the September 27, 2005, issue of the Federal Register and will be available for public inspection in the office of the Docket Clerk during regular business hours, or can be viewed at: http://www.ams.usda.gov/fv/moab.html.

FOR FURTHER INFORMATION CONTACT: Terry Vawter, Marketing Specialist, or Kurt J. Kimmel, Regional Manager, California Marketing Field Office, Marketing Order Administration Branch, Fruit and Vegetable Programs, AMS, USDA, 2202 Monterey Street, Suite 102B, Fresno, California 93721; Telephone: (559) 487-5901, Fax: (559) 487-5906; E-mail: terry.vawter@usda.gov or kurt.kimmel@usda.gov.

Small businesses may request information on complying with this regulation by contacting Jay Guerber, Marketing Order Administration Branch, Fruit and Vegetable Programs, AMS, USDA, 1400 Independence Avenue, SW., STOP 0237, Washington, DC 20250-0237; Telephone: (202) 720-2491, Fax: (202) 720-8938, or E-mail: Jay.Guerber@usda.gov.

SUPPLEMENTARY INFORMATION: A proposed rule was issued on May 20, 2005, and published in the Federal Register on May 25, 2005 (70 FR 30001), that would change the regulatory periods when the minimum grade, size, quality, and maturity requirements apply to southeastern California grapes under the order and to imported grapes under the table grape import regulation. A notice of extension of comment period was issued July 20, 2005, and published in the Federal Register on July 25, 2005 (70 FR 42513), which extended the comment period to September 25, 2005. The comment period was extended again in a notice issued September 23, 2005, and published in the Federal Register on September 27, 2005 (70 FR 56378), which further extended the comment period to November 28, 2005.

Prior to the end of the previous comment period, USDA received a request under the Freedom of Information Act (FOIA) for all information cited in the proposed rule. USDA suspended action on the proposal until the FOIA request, and a subsequent appeal to USDA's initial response to the FOIA, could be resolved. USDA has subsequently resolved all issues regarding the FOIA request and released all the information cited in the proposed rule to the requesting party.

On October 31, 2005, USDA received additional requests to again extend the comment period. The additional extension of the comment period was requested to provide additional time to resolve issues surrounding the ongoing FOIA request and to accumulate and analyze data regarding the proposal.

USDA is extending the comment period an additional 60 days to allow interested persons more time to review the proposed rule, perform a more complete analysis, and submit written comments.

This notice is issued pursuant to the Agricultural Marketing Agreement Act of 1937.

Authority: 7 U.S.C. 601-674.

Dated: June 30, 2006.
Lloyd C. Day,
Administrator, Agricultural Marketing Service.

[FR Doc. E6-10769 Filed 7-10-06; 8:45 am]

BILLING CODE 3410-02-P